DEPARTMENT OF THE INTERIOR

Bureau of Land Management

[LLMT926000-11-L19100000-BJ0000-LRCME0R04773]

Notice of Filing of Plats of Survey; Montana

AGENCY: Bureau of Land Management, Interior.

ACTION: Notice of filing of plats of survey.

SUMMARY: The Bureau of Land Management (BLM) will file the plat of survey of the lands described below in the BLM Montana State Office, Billings, Montana, on May 20, 2011.

DATES: Protests of the survey must be filed before May 20, 2011 to be considered.

ADDRESSES: Protests of the survey should be sent to the Branch of Cadastral Survey, Bureau of Land Management, 5001 Southgate Drive, Billings, Montana 59101-4669.

FOR FURTHER INFORMATION CONTACT: Steve Toth, Cadastral Surveyor, Branch of Cadastral Survey, Bureau of Land Management, 5001 Southgate Drive, Billings, Montana 59101-4669, telephone (406) 896-5121 or (406) 896-5009. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This survey was executed at the request of the Bureau of Indian Affairs, Rocky Mountain Region, Billings, Montana, and was necessary to determine individual and tribal trust lands.

The lands we surveyed are:

Principal Meridian, Montana

T. 27 N., R. 51 E.

The plat, in one sheet, representing the dependent resurvey of a portion of the subdivisional lines, a portion of the subdivision of sections 17 and 20, the adjusted original meanders of the former left bank of the Missouri River, downstream through sections 17, 18, and 20, and a division of accretion line, the subdivision of section 17, and the survey of the meanders of the present left bank of the Missouri River and informative traverse, downstream, through sections 17 and 20, the left bank and medial line of a relicted channel of the Missouri River, in front of section 17, the informative traverse of a former left bank of the Missouri River, certain division of accretion and partition lines, and an attached island, now designated as Tract 46 in Township 27 North, Range 51 East, Principal Meridian, Montana, was accepted April 8, 2011.

We will place a copy of the plat, in one sheet, and related field notes we described in the open files. They will be available to the public as a matter of information. If the BLM receives a protest against this survey, as shown on this plat, in one sheet, prior to the date of the official filing, we will stay the filing pending our consideration of the protest. We will not officially file this plat, in one sheet, until the day after we have accepted or dismissed all protests and they have become final, including decisions or appeals.

Authority: 43 U.S.C. Chap. 3.

Dated: April 14, 2011.
James D. Claflin
Chief Cadastral Surveyor, Division of Resources.

[FR Doc. 2011-9547 Filed 4-19-11; 8:45 am]

BILLING CODE 4310-DN-P